DEPARTMENT OF COMMERCE

National Oceanic and Atmospheric Administration

National Climate Assessment Development and Advisory Committee; Request for Nominations and Notice of Meeting

AGENCY: National Oceanic and Atmospheric Administration; Department of Commerce.

ACTION: Request for nominations to the National Climate Assessment Development and Advisory Committee; Notice of Public Meeting.

SUMMARY: This notice requests nominations of qualified individuals for the National Climate Assessment Development and Advisory Committee (NCADAC) and advises the public of an upcoming meeting of the NCADAC, pending final approval of its members. Individuals may self-nominate. Nominations received will be evaluated and, if appropriate to the overall composition of the committee, accepted. The NCADAC will meet on April 4, 2011, from 9 a.m. to 6 p.m.; April 5, 2011, from 8 a.m. to 6 p.m.; and April 6, 2011, from 8 a.m. to 2 p.m.

DATES: Nominations Deadline: Nominations must be received by March 16, 2011.

Public Comment Deadline: Public comments must be received by the NCADAC Designated Federal Official (DFO) by 12 p.m. on March 31, 2011, to provide sufficient time for distribution to the members prior to the meeting. Written comments received after 12 p.m. on March 31, 2011, will be distributed to the NCADAC, but may not be reviewed prior to the meeting date.

NCADAC Meeting Date, Time and Location: The NCADAC will meet April 4-6, 2011, at the following times: April 4, 2011, from 9 a.m. to 6 p.m.; April 5, 2011, from 8 a.m. to 6 p.m.; and April 6, 2011, from 8 a.m. to 2 p.m.. The location will be in the metro Washington, DC, area and will be announced at http://globalchange.gov/what-we-do/assessment/notices. The meeting may have limited seating capacity; seats are available on a first come-first served basis. For more information about the meeting, see the SUPPLEMENTARY INFORMATION.

ADDRESSES: Responses to this request for nominations must be submitted electronically at http://globalchange.gov/what-we-do/assessment/notices. Any member of the public who wishes to submit oral or written comments should contact: Dr. Kandis Wyatt, the NCADAC Designated Federal Official (DFO), NESDIS, SSMC1 Room 8330, 1335 East-West Highway, Silver Spring, Maryland 20910; telephone (240) 429-0512, e-mail: Kandis.Wyatt@noaa.gov.

FOR FURTHER INFORMATION CONTACT: Any member of the public wishing further information concerning the meeting should contact: Dr. Kandis Wyatt, the NCADAC Designated Federal Official (DFO), NESDIS, SSMC1 Room 8330, 1335 East-West Highway, Silver Spring, Maryland 20910; telephone (240) 429-0512, e-mail: Kandis.Wyatt@noaa.gov.

SUPPLEMENTARY INFORMATION:

Federal Advisory Committee

The National Climate Assessment (NCA) is required by the Global Change Research Act of 1990. The Secretary of Commerce has established the NCADAC to produce a NCA that synthesizes and summarizes the science and information pertaining to current and future impacts of climate change upon the United States; and to provide advice and recommendations toward the development of an ongoing, sustainable national assessment of global change impacts and adaptation and mitigation strategies for the Nation.

Once members are appointed, the NCADAC will work with assessment staff, agencies and external experts to generate inputs to the assessment process that come from a variety of sources—for example, government observing systems, peer reviewed literature, and information about existing social and physical stresses within regions and sectors. The NCADAC is charged both with writing the report that is due to the President and Congress, and with helping to build a permanent national process to document changes in climate, its impacts and associated global changes over time. Among the proposed approaches is establishing a series of national indicators of change.

Through this Federal Register Notice, the Department of Commerce solicits nominations for the NCADAC. Since the NCADAC will provide advice about the process of assessment as well as write a report, a very wide range of expertise is required. In considering potential members of this committee, persons with the following types of expertise were sought: Sectoral expertise, including the natural environment, agriculture and forestry, energy, land cover and land use, water resources, transportation, health, human social systems, biodiversity, coastal and marine resources; systems expertise including oceans, atmosphere, biogeochemical cycles, etc.; climate modeling, climate impacts, atmospheric science, land use and land cover change; assessment process experts, including people who are familiar with economic assessment and valuation, vulnerability assessment, adaptation, mitigation, and integrated assessment; international issues and assessment components; data systems development and management; communications, stakeholder engagement and public processes; urban systems and infrastructure; homeland security; environmental justice and cultural resources and indigenous perspectives. Persons with a range of perspectives are sought, including people with experience in private industry, state, local, and regional government, academia, and non-governmental organizations, and drawn from a broad geographic distribution.

Nominations must include a no more than two-page resume outlining the qualifications, experience and education of the individual being nominated, as well as a paragraph describing how the individual will strengthen the ability of the committee to meet its charge, relative to the charter for the NCADAC at http://globalchange.gov/what-we-do/assessment/charter and list of expertise requirements included in this Federal Register Notice. Nominees should have the ability to work effectively in a committee process, be prepared for a government clearance review, and expect to dedicate significant time to NCADAC activities. Members of the committee are not compensated for their time, but their travel expenses associated with attending committee meetings are reimbursed. Information obtained as a result of this request may be used by the government for program planning on a non-attribution basis. Do not include any information that might be considered proprietary or confidential.

NCADAC Meeting

The NCADAC will meet on April 4-6, 2011, at the following times: April 4, 2011, from 9 a.m. to 6 p.m.; April 5, 2011, from 8 a.m. to 6 p.m.; and April 6, 2011, from 8 a.m. to 2 p.m. During this public meeting, the NCADAC will discuss initial plans for development of a first draft of the NCADAC's Report to Congress and the President, as well as advising on the development of the Assessment process.

The proposed approach to the Assessment and a draft outline of a report to be prepared in 2013 was published in a Federal Register Notice dated September 7, 2010, and available at http://www.globalchange.gov/what-we-do/assessment/. The Interim strategic plan for the NCA is available at http://globalchange.gov/what-we-do/assessment/strategic-plan. The Charter for the Assessment was published in a Federal Register Notice dated December 27, 2010, and is available at http://globalchange.gov/what-we-do/assessment/charter.

The NCA outline will evolve over the coming months and years in response to continued input from experts, peer review, and the public. In the months after the first meeting of the NCADAC, another Federal Register Notice will be issued that provides an updated outline and timeframe for the NCA process.

There are multiple ways that the Assessment provides opportunities for public comment and engagement. They include public meetings, an e-newsletter that provides an update on Assessment activities every 6 weeks, a Web site that is regularly updated, and Federal Register Notices.

Special Accommodations: These meetings are physically accessible to people with disabilities. Requests for special accommodations may be directed no later than 12 p.m. on March 30, 2011, to Dr. Kandis Wyatt, the NCADAC Designated Federal Official (DFO), NESDIS, SSMC1 Room 8330, 1335 East-West Highway, Silver Spring, Maryland 20910; telephone (240) 429-0512, e-mail: Kandis.Wyatt@noaa.gov.

Additional Information and Public Comments: The NCADAC meeting will be open to public participation and will include a 30-minute public comment period on April 5, 2011, from 9 a.m. to 9:30 a.m. (Please check the www.globalchange.gov/what-we-do/assessment/notices Web site to confirm this time). Each individual or group requesting to make a verbal presentation will be limited to a total time of five (5) minutes. If there are no prior requests to speak, or time remains in the public comment period, there will be a call to the audience for comments, limited to 5 minutes each. Written comments will also be accepted and 50 paper copies as well as an electronic version should be received by the NCADAC Designated Federal Official (DFO) by 12 p.m. on March 31, 2011, to provide sufficient time for distribution to the members prior to the meeting. Written comments received after 12 p.m. on March 31, 2011, will be distributed to the NCADAC, but may not be reviewed prior to the meeting date. Seats will be available to the public on a first-come, first-served basis.

Proposed Nominees to the NCADAC

Biographies of proposed nominees of the NCADAC are available at http://globalchange.gov/what-we-do/assessment/proposedFACmembers.

Non-Federal

Daniel Abbasi, Mission Point Capital Partners

Dr. E. Virginia Armbrust, University of Washington

Dr. Rosina Bierbaum, University of Michigan

Maria Blair, Rockefeller Foundation

James Buizer, Arizona State University

Dr. Lynne Carter, Louisiana State University

Dr. F. Stuart Chapin III, University of Alaska

Dr. Camille Coley, Florida Atlantic University

Jan Dell, P.E., CH2MHill

Plácido dos Santos, Arizona Department of Water Resources (ret)

Guido Franco, California Energy Commission

Mary Gade, Gade Environmental Group, LLC

Dr. Aris Georgakakos, Georgia Institute of Technology

Dr. David Hales, College of the Atlantic

Dr. Mark Howden, Australian Commonwealth Scientific and Industrial Research Organisation

Dr. Peter Kareiva, The Nature Conservancy

Dr. Kenneth Kunkel, North Carolina State University and NOAA Cooperative Institute for Climate and Satellites

Dr. Rattan Lal, The Ohio State University

Dr. Arthur Lee, Chevron Corporation

Dr. Jo-Ann Leong, University of Hawai'i

Dr. Diana Liverman, University of Arizona and Oxford University

Dr. Edward Maibach, George Mason University

Dr. Jerry Melillo, Marine Biological Laboratory

Dr. Susanne Moser, Susanne Moser Research & Consulting, Stanford University, and University of California-Santa Cruz

Dr. Richard Moss, Joint Global Change Research Institute, Pacific Northwest National Laboratory and University of Maryland

Dr. Philip Mote, Oregon State University

Dr. Marie O'Neill, University of Michigan

Terese Richmond, Gordon Derr, LLP

Dr. Andrew Rosenberg, University of New Hampshire and Conservation International

Dr. Richard Schmalensee, Massachusetts Institute of Technology

Joel Smith, Stratus Consulting

Dr. Donald Wuebbles, University of Illinois

Dr. Gary Yohe, Wesleyan University

Federal Ex-Officio

Dr. John Balbus, Department of Health and Human Services

William Breed, U.S. Agency for International Development

Dr. Gary Geernaert, Department of Energy

Dr. John Hall, Department of Defense

Alice Hill, Department of Homeland Security (pending charter revision)

Dr. Len Hirsch, Smithsonian Institution

Dr. Patricia Jacobberger-Jellison, National Aeronautics and Space Administration

Thomas Karl, Subcommittee on Global Change Research and National Oceanic and Atmospheric Administration

Cathleen Kelly, White House Council on Environmental Quality and Adaptation Task Force (pending charter revision)

Dr. Chester Koblinsky, National Oceanic and Atmospheric Administration

Linda Lawson, Department of Transportation

Dr. Robert O'Connor, National Science Foundation

Dr. Jonathan Pershing, Department of State

Dr. Michael Slimak, Environmental Protection Agency

Dr. Alan Thornhill, Department of the Interior

Dr. Margaret Walsh, U.S. Department of Agriculture

Dated: February 23, 2011.
Gary Locke,
Secretary of Commerce.

[FR Doc. 2011-4562 Filed 3-1-11; 8:45 am]

BILLING CODE 3510-EA-P